DEPARTMENT OF COMMERCE

Foreign-Trade Zones Board

Docket 28-2008

Foreign-Trade Zone 38 Spartanburg County, SC, Request for Manufacturing Authority, ZF Lemförder Corporation (Automotive Suspension Systems)

An application has been submitted to the Foreign-Trade Zones Board (the Board) by the South Carolina State Ports Authority, grantee of FTZ 38, pursuant to Section 400.28(a)(2) of the Board's regulations (15 CFR Part 400), requesting authority on behalf of ZF Lemförder Corporation (Lemförder), to assemble automotive suspension systems under FTZ procedures within FTZ 38. It was formally filed on April 30, 2008.

The Lemförder facility (71 employees) is located at 191 Parkway West (Site 3) in Duncan, South Carolina. Under FTZ procedures, Lemförder would assemble up to 105,000 automotive suspension systems (HTSUS 8708.80) annually for the U.S. market and export. Foreign components that would be used in the assembly activity (up to 100% of total purchases) include: stoppers/lids/caps, reinforced tubes/pipes/hoses, articles of rubber, fasteners, helical and leaf springs, cables and wires, fittings, check valves, brake system parts, suspension systems and related parts, dampeners, height sensors, wheel hubs, drive shafts, universal joints, and ball bearings (duty rates: free - 9.0%).

FTZ procedures would exempt Lemförder from customs duty payments on the foreign components used in production for export. On domestic shipments transferred in-bond to U.S. automobile assembly plants with subzone status, no duties would be paid on the foreign components within the suspension systems until the finished vehicles are subsequently entered for consumption, at which time the finished automobile duty rate (2.5%) could be applied to the foreign components. For the suspension systems withdrawn directly by Lemförder for customs entry, the finished automotive suspension system rate (2.5%) could be applied to the foreign inputs noted above. The application indicates that the company would also realize duty deferral and certain logistical/supply chain savings. The application indicates that the savings from FTZ procedures would help improve the facility's international competitiveness.

In accordance with the Board's regulations, Pierre Duy of the FTZ Staff is designated examiner to investigate the application and report to the Board.

Public comment is invited from interested parties. Submissions (original and 3 copies) shall be addressed to the Board's Executive Secretary at the following address: Office of the Executive Secretary, Room 2111, U.S. Department of Commerce, 1401 Constitution Avenue, NW, Washington, DC 20230-0002. The closing period for receipt of comments is July 7, 2008. Rebuttal comments in response to material submitted during the foregoing period may be submitted during the subsequent 15-day period to July 21, 2008.

A copy of the application will be available for public inspection at the Office of the Foreign-Trade Zones Board's Executive Secretary at the address listed above. For further information, contact Pierre Duy, examiner, at: pierre_duy@ita.doc.gov, or (202) 482-1378.

Dated: April 30, 2008.
Andrew McGilvray,
Executive Secretary.

[FR Doc. E8-10089 Filed 5-6-08; 8:45 am]

BILLING CODE 3510-DS-S